DEPARTMENT OF ENERGY

Federal Energy Regulatory Commission

Combined Notice of Filings #1

Take notice that the Commission received the following electric rate filings:

Docket Numbers: ER01-468-012; ER00-3621-013; ER04-318-009; ER05-36-009; ER05-37-009; ER05-34-009; ER05-35-009; ER04-249-009; ER99-1695-018; ER02-23-016; ER07-1306-008; ER97-30-010; ER96-2869-017; ER08-1323-004; ER97-3561-009.

Applicants: Dominion Energy Marketing, Inc., Dominion Nuclear Connecticut, Inc., Dominion Energy Kewaunee, Inc., Dominion Energy Brayton Point, LLC, Dominion Energy Manchester Street, Inc., Dominion Energy New England, Inc., Dominion Energy Salem Harbor, LLC, Dominion Retail, Inc., Elwood Energy, LLC, Fairless Energy, LLC, NedPower Mt. Storm, LLC, Kincaid Generation, LLC, State Line Energy, LLC, Fowler Ridge Wind Farm LLC, Virginia Electric and Power Company.

Description: Market Power Analyses Revised Appendix of Assets of Dominion Resources Services, Inc.

Filed Date: 06/10/2011.

Accession Number: 20110610-5223.

Comment Date: 5 p.m. Eastern Time on Friday, July 01, 2011.

Docket Numbers: ER11-3807-000.

Applicants: Xcel Energy Services Inc.

Description: Notice of Termination of the Engineering and Procurement Agreement between Basin Electric Power Cooperative and Northern States Power Company, FERC Electric Tariff Second Revised Volume No. 3. Service Agreement No. 280-NSP.

Filed Date: 06/15/2011.

Accession Number: 20110615-5138.

Comment Date: 5 p.m. Eastern Time on Wednesday, July 06, 2011.

Docket Numbers: ER11-3808-000.

Applicants: ORNI 39, LLC.

Description: ORNI 39, LLC submits tariff filing per 35.12: Petition of ORNI 39 LLC For Approval of Initial Market-Based Rate Tariff to be effective 8/1/2011.

Filed Date: 06/16/2011.

Accession Number: 20110616-5019.

Comment Date: 5 p.m. Eastern Time on Thursday, July 07, 2011.

Take notice that the Commission received the following electric securities filings:

Docket Numbers: ES11-38-000.

Applicants: Upper Peninsula Power Company.

Description: Upper Peninsula Power Company's Application for Authorization to Issue Securities Under Section 204 of the Federal Power Act.

Filed Date: 06/15/2011.

Accession Number: 20110615-5134.

Comment Date: 5 p.m. Eastern Time on Wednesday, July 06, 2011.

Take notice that the Commission received the following qualifying facility filings:

Docket Numbers: QF11-274-000.

Applicants: CraftMaster Manufacturing, Inc.

Description: Form 556—Notice of self-certification of qualifying cogeneration facility status of CraftMaster Manufacturing, Inc.

Filed Date: 05/20/2011.

Accession Number: 20110520-5101.

Comment Date: None Applicable.

Docket Numbers: QF11-276-000.

Applicants: Iowa Combined Heat and Power LLC.

Description: Form 556—Notice of self-certification of qualifying cogeneration facility status of Iowa Combined Heat and Power LLC.

Filed Date: 05/20/2011.

Accession Number: 20110520-5164.

Comment Date: None Applicable.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: June 16, 2011.
Nathaniel J. Davis, Sr.,
Deputy Secretary.

[FR Doc. 2011-15545 Filed 6-21-11; 8:45 am]

BILLING CODE 6717-01-P